SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: February 1-28, 2015.

ADDRESSES: Susquehanna River Basin Commission, 4423 North Front Street, Harrisburg, PA 17110-1788.

FOR FURTHER INFORMATION CONTACT: Jason E. Oyler, Regulatory Counsel, telephone: (717) 238-0423, ext. 1312; fax: (717) 238-2436; email: joyler@srbc.net . Regular mail inquiries may be sent to the above address.

SUPPLEMENTARY INFORMATION: This notice lists the projects, described below, receiving approval for the consumptive use of water pursuant to the Commission's approval by rule process set forth in 18 CFR 806.22(f) for the time period specified above:

Approvals by Rule Issued Under 18 CFR 806.22(f)

1. Chesapeake Appalachia, LLC, Pad ID: Duane, ABR-20100601.R1, Leroy Township, Bradford County, Pa.; Consumptive Use of Up to 7.500 mgd; Approval Date: March 2, 2015.

2. Chesapeake Appalachia, LLC, Pad ID: Finnerty, ABR-20100602.R1, West Burlington Township, Bradford County, Pa.; Consumptive Use of Up to 7.500 mgd; Approval Date: March 2, 2015.

3. Chesapeake Appalachia, LLC, Pad ID: Allen, ABR-20100606.R1, Wysox Township, Bradford County, Pa.; Consumptive Use of Up to 7.500 mgd; Approval Date: March 2, 2015.

4. Chesapeake Appalachia, LLC, Pad ID: Rylee, ABR-20100610.R1, Auburn Township, Susquehanna County, Pa.; Consumptive Use of Up to 7.500 mgd; Approval Date: March 2, 2015.

5. Chesapeake Appalachia, LLC, Pad ID: Stalford, ABR-20100617.R1, Wyalusing Township, Bradford County, Pa.; Consumptive Use of Up to 7.500 mgd; Approval Date: March 2, 2015.

6. Chesapeake Appalachia, LLC, Pad ID: Shaw, ABR-20100634.R1, Windham Township, Wyoming County, Pa.; Consumptive Use of Up to 7.500 mgd; Approval Date: March 2, 2015.

7. Chesapeake Appalachia, LLC, Pad ID: Cannella, ABR-20100637.R1, Auburn Township, Susquehanna County, Pa.; Consumptive Use of Up to 7.500 mgd; Approval Date: March 2, 2015.

8. Chesapeake Appalachia, LLC, Pad ID: BDF, ABR-20100640.R1, Smithfield Township, Bradford County, Pa.; Consumptive Use of Up to 7.500 mgd; Approval Date: March 2, 2015.

9. Chesapeake Appalachia, LLC, Pad ID: Akita NEW, ABR-20100689.R1, Smithfield Township, Bradford County, Pa.; Consumptive Use of Up to 7.500 mgd; Approval Date: March 2, 2015.

10. Chesapeake Appalachia, LLC, Pad ID: Hilltop NEW, ABR-201006102.R1, Jessup Township, Susquehanna County, Pa.; Consumptive Use of Up to 7.500 mgd; Approval Date: March 2, 2015.

11. Chesapeake Appalachia, LLC, Pad ID: Kipar NEW, ABR-201006107.R1, Auburn Township, Susquehanna County, Pa.; Consumptive Use of Up to 7.500 mgd; Approval Date: March 2, 2015.

12. Chesapeake Appalachia, LLC, Pad ID: Curtain NEW, ABR-201006110.R1, Windham Township, Wyoming County, Pa.; Consumptive Use of Up to 7.500 mgd; Approval Date: March 2, 2015.

13. Carrizo (Marcellus), LLC, Pad ID: Baker 2H, ABR-201008137.R1, Forest Lake Township, Susquehanna County, Pa.; Consumptive Use of Up to 1.400 mgd; Approval Date: March 10, 2015.

14. SWEPI, LP, Pad ID: Cascarino 443, ABR-20100222.R1, Shippen Township, Tioga County, Pa.; Consumptive Use of Up to 3.000 mgd; Approval Date: March 10, 2015.

15. Chesapeake Appalachia, LLC, Pad ID: Bonin, ABR-20100639.R1, Orwell Township, Bradford County, Pa.; Consumptive Use of Up to 7.500 mgd; Approval Date: March 13, 2015.

16. Chesapeake Appalachia, LLC, Pad ID: Alderfer NEW, ABR-20100671.R1, Litchfield Township, Bradford County, Pa.; Consumptive Use of Up to 7.500 mgd; Approval Date: March 13, 2015.

17. Chesapeake Appalachia, LLC, Pad ID: Cranrun, ABR-20100680.R1, Leroy Township, Bradford County, Pa.; Consumptive Use of Up to 7.500 mgd; Approval Date: March 13, 2015.

18. Chesapeake Appalachia, LLC, Pad ID: Black Creek, ABR-20100686.R1, Forks Township, Sullivan County, Pa.; Consumptive Use of Up to 7.500 mgd; Approval Date: March 13, 2015.

19. Chesapeake Appalachia, LLC, Pad ID: Beebe, ABR-20100687.R1, Asylum Township, Bradford County, Pa.; Consumptive Use of Up to 7.500 mgd; Approval Date: March 13, 2015.

20. Chesapeake Appalachia, LLC, Pad ID: Linski, ABR-20100662.R1, Tuscarora Township, Bradford County, Pa.; Consumptive Use of Up to 7.500 mgd; Approval Date: March 16, 2015.

21. Chesapeake Appalachia, LLC, Pad ID: Lillie-NEW, ABR-201006104.R1, Herrick Township, Bradford County, Pa.; Consumptive Use of Up to 7.500 mgd; Approval Date: March 16, 2015.

22. Chesapeake Appalachia, LLC, Pad ID: Jacobs, ABR-201007028.R1, Rome Township, Bradford County, Pa.; Consumptive Use of Up to 7.500 mgd; Approval Date: March 16, 2015.

23. Chesapeake Appalachia, LLC, Pad ID: Dewees, ABR-201007063.R1, Rome Township, Bradford County, Pa.; Consumptive Use of Up to 7.500 mgd; Approval Date: March 16, 2015.

24. Chesapeake Appalachia, LLC, Pad ID: Towner, ABR-20100638.R1, Rome Township, Bradford County, Pa.; Consumptive Use of Up to 7.500 mgd; Approval Date: March 17, 2015.

25. Chesapeake Appalachia, LLC, Pad ID: Them, ABR-20100642.R1, Wysox Township, Bradford County, Pa.; Consumptive Use of Up to 7.500 mgd; Approval Date: March 17, 2015.

26. Chesapeake Appalachia, LLC, Pad ID: Rowe, ABR-201007101.R1, Rome Township, Bradford County, Pa.; Consumptive Use of Up to 7.500 mgd; Approval Date: March 17, 2015.

27. Range Resources—Appalachia, LLC, Pad ID: Shohocken Hunt Club Unit #1H-#6H, ABR-20100646.R1, Cummings Township, Lycoming County, Pa.; Consumptive Use of Up to 5.000 mgd; Approval Date: March 17, 2015.

28. SWEPI, LP, Pad ID: Sharretts 805, ABR-20100229.R1, Clymer Township, Tioga County, Pa.; Consumptive Use of Up to 3.000 mgd; Approval Date: March 17, 2015.

29. SWEPI, LP, Pad ID: Parthemer 284, ABR-20100311.R1, Charleston Township, Tioga County, Pa.; Consumptive Use of Up to 4.000 mgd; Approval Date: March 17, 2015.

30. XTO Energy Incorporated, Pad ID: Hazlak 8504, ABR-20100211.R1, Shrewsbury Township, Lycoming County, Pa.; Consumptive Use of Up to 4.000 mgd; Approval Date: March 17, 2015.

31. Chesapeake Appalachia, LLC, Pad ID: Henderson, ABR-201006103.R1, Fox Township, Sullivan County, Pa.; Consumptive Use of Up to 7.500 mgd; Approval Date: March 20, 2015.

32. Chesapeake Appalachia, LLC, Pad ID: Coveytown, ABR-201007014.R1, Cherry Township, Sullivan County, Pa.; Consumptive Use of Up to 7.500 mgd; Approval Date: March 20, 2015.

33. Chesapeake Appalachia, LLC, Pad ID: Insinger, ABR-201007023.R1, Forks Township, Sullivan County, Pa.; Consumptive Use of Up to 7.500 mgd; Approval Date: March 20, 2015.

34. Range Resources—Appalachia, LLC, Pad ID: Ogontz 41H-43H, ABR-201503001, Cummings Township, Lycoming County, Pa.; Consumptive Use of Up to 5.000 mgd; Approval Date: March 20, 2015.

35. Range Resources—Appalachia, LLC, Pad ID: Laurel Hill 17H-22H, ABR-201503002, Jackson Township, Lycoming County, Pa.; Consumptive Use of Up to 5.000 mgd; Approval Date: March 20, 2015.

36. Range Resources—Appalachia, LLC, Pad ID: Laurel Hill D Pad, ABR-201503003, Cogan House and Jackson Townships, Lycoming County, Pa.; Consumptive Use of Up to 5.000 mgd; Approval Date: March 23, 2015.

37. SWN Production Company, LLC, Pad ID: NR-24 BUCKHORN-PAD, ABR-201503004, Oakland Township, Susquehanna County, Pa.; Consumptive Use of Up to 4.999 mgd; Approval Date: March 27, 2015.

38. Anadarko E&P Onshore, LLC, Pad ID: COP Tr 231 C, ABR-20100304.R1, Boggs Township, Centre County, Pa.; Consumptive Use of Up to 3.000 mgd; Approval Date: March 30, 2015.

39. Anadarko E&P Onshore, LLC, Pad ID: COP Tr 342 D, ABR-20100349.R1, Beech Creek Township, Clinton County, Pa.; Consumptive Use of Up to 3.000 mgd; Approval Date: March 30, 2015.

40. Anadarko E&P Onshore, LLC, Pad ID: COP Tr 231 D, ABR-20100530.R1, Snow Shoe Township, Centre County, Pa.; Consumptive Use of Up to 3.000 mgd; Approval Date: March 30, 2015.

41. Anadarko E&P Onshore, LLC, Pad ID: COP Tr 289 C, ABR-20100636.R1, McHenry Township, Lycoming County, Pa.; Consumptive Use of Up to 3.000 mgd; Approval Date: March 30, 2015.

42. Anadarko E&P Onshore, LLC, Pad ID: COP Tr 342 A, ABR-20100695.R1, Beech Creek Township, Clinton County, Pa.; Consumptive Use of Up to 3.000 mgd; Approval Date: March 30, 2015.

43. Cabot Oil & Gas Corporation, Pad ID: DavisG P1, ABR-201007120.R1, Gibson Township, Susquehanna County, Pa.; Consumptive Use of Up to 3.575 mgd; Approval Date: March 30, 2015.

44. Cabot Oil & Gas Corporation, Pad ID: AdamsJ P1, ABR-201007121.R1, Harford Township, Susquehanna County, Pa.; Consumptive Use of Up to 3.575 mgd; Approval Date: March 30, 2015.

45. Cabot Oil & Gas Corporation, Pad ID: PlonskiJ P1, ABR-201008009.R1, Brooklyn Township, Susquehanna County, Pa.; Consumptive Use of Up to 3.575 mgd; Approval Date: March 30, 2015.

46. Cabot Oil & Gas Corporation, Pad ID: Maiolini P3, ABR-201008114.R1, Auburn Township, Susquehanna County, Pa.; Consumptive Use of Up to 3.575 mgd; Approval Date: March 30, 2015.

47. Cabot Oil & Gas Corporation, Pad ID: StockholmK P2, ABR-201008134.R1, Rush Township, Susquehanna County, Pa.; Consumptive Use of Up to 3.575 mgd; Approval Date: March 30, 2015.

48. Cabot Oil & Gas Corporation, Pad ID: HallidayA P1, ABR-201503005, Bridgewater Township, Susquehanna County, Pa.; Consumptive Use of Up to 4.250 mgd; Approval Date: March 30, 2015.

49. Cabot Oil & Gas Corporation, Pad ID: BolcatoG P1, ABR-201503006, Gibson Township, Susquehanna County, Pa.; Consumptive Use of Up to 4.250 mgd; Approval Date: March 30, 2015.

50. Chesapeake Appalachia, LLC, Pad ID: Lopatofsky NEW, ABR-201007100.R1, Washington Township, Wyoming County, Pa.; Consumptive Use of Up to 7.500 mgd; Approval Date: March 30, 2015.

51. Chesapeake Appalachia, LLC, Pad ID: Slumber Valley, ABR-201008015.R1, Meshoppen Township, Wyoming County, Pa.; Consumptive Use of Up to 7.500 mgd; Approval Date: March 30, 2015.

52. Chief Oil & Gas, LLC, Pad ID: Allen Drilling Pad #1, ABR-201009002.R1, Asylum Township, Bradford County, Pa.; Consumptive Use of Up to 2.000 mgd; Approval Date: March 30, 2015.

53. Chief Oil & Gas, LLC, Pad ID: Hemlock Hunting Club Drilling Pad #1, ABR-201009070.R1, Elkland Township, Sullivan County, Pa.; Consumptive Use of Up to 2.000 mgd; Approval Date: March 30, 2015.

54. EXCO Resources (PA), LLC, Pad ID: Confer (Pad 32), ABR-20100669.R1, Burnside Township, Centre County, Pa.; Consumptive Use of Up to 3.000 mgd; Approval Date: March 30, 2015.

55. SWEPI LP, Pad ID: Paul 906, ABR-20100314.R1, West Branch Township, Potter County, Pa.; Consumptive Use of Up to 4.990 mgd; Approval Date: March 30, 2015.

56. SWEPI LP, Pad ID: Waskiewicz 445, ABR-20100330.R1, Delmar Township, Tioga County, Pa.; Consumptive Use of Up to 1.000 mgd; Approval Date: March 30, 2015.

57. SWEPI LP, Pad ID: Webster 549, ABR-20100335.R1, Delmar Township, Tioga County, Pa.; Consumptive Use of Up to 1.000 mgd; Approval Date: March 30, 2015.

58. XTO Energy Incorporated, Pad ID: Dietterick, ABR-20100315.R1, Jordan Township, Lycoming County, Pa.; Consumptive Use of Up to 4.000 mgd; Approval Date: March 30, 2015.

Authority: Pub. L. 91-575, 84 Stat. 1509, et seq., 18 CFR parts 806, 807, and 808.

Dated: May 11, 2015.
Stephanie L. Richardson,
Secretary to the Commission.

[FR Doc. 2015-11673 Filed 5-14-15; 8:45 am]

BILLING CODE 7040-01-P